FEDERAL COMMUNICATIONS COMMISSION

47 CFR Part 78

[CS Docket No. 99-250, FCC 02-149]

Cable Television Relay Service

AGENCY: Federal Communications Commission.

ACTION: Final rule, announcement of effective date.

SUMMARY: The Federal Communications Commission has received Office of Management and Budget (OMB) approval for the public information collection contained in the Commission's decision expanding the eligibility for licenses in the Cable Television Relay Service (CARS) to all Multichannel Video Programming Distributors (MVPDs).

DATES: Section 78.13(f) published at 67 FR 43257, June 27, 2002, received OMB approval and was effective March 13, 2003.

FOR FURTHER INFORMATION CONTACT: Wayne T. McKee, 202-418-2355.

SUPPLEMENTARY INFORMATION: The Federal Communications Commission has received OMB approval for the expansion of the class of those eligible to file FCC Form 327, Application for a Television Relay Service Station Authorization, OMB Control No. 3060-0055. The information collection was revised in the Order in CS Docket No. 99-250 which appears at 67 FR 43257, June 27, 2002. The effective date of the rules adopted in that Order was published as July 29, 2002, except for § 78.13(f) which contains modified information collection requirements that would not be effective until approved by the Office of Management and Budget. Through this document, the Commission announces that it has received this approval (OMB Control No. 3060-0110, Expiration Date: August 31, 2003) and that § 78.13(f) is effective on March 13, 2003.

Pursuant to the Paperwork Reduction Act of 1995, Public Law 96-511, an agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Les Smith, Federal Communications Commission, (202) 418-0217.

Federal Communications Commission.
Marlene H. Dortch,
Secretary.

[FR Doc. 03-12918 Filed 5-22-03; 8:45 am]

BILLING CODE 6712-01-P